DEPARTMENT OF COMMERCE

International Trade Administration

[C-570-938]

Citric Acid and Certain Citrate Salts From People's Republic of China: Partial Rescission of Countervailing Duty Administrative Review

AGENCY: Import Administration, International Trade Administration, Department of Commerce.

DATES: Effective Date: November 22, 2010.

FOR FURTHER INFORMATION CONTACT: Seth Isenberg or Patricia Tran, AD/CVD Operations, Office 1, Import Administration, U.S. Department of Commerce, 14th Street and Constitution Avenue, NW., Washington, DC 20230; telephone (202) 482-0588 and (202) 482-1503, respectively.

SUPPLEMENTARY INFORMATION:

Background

On May 3, 2010, the U.S. Department of Commerce (“Department”) issued a notice of opportunity to request an administrative review of this order for the period of review (“POR”) September 19, 2008, through December 31, 2009. See Antidumping or Countervailing Duty Order, Finding, or Suspended Investigation; Opportunity To Request Administrative Review, 75 FR 23236-37 (May 3, 2010). On June 1, 2010, in accordance with 19 CFR 351.213(b), the Department received a timely request from Archer Daniels Midland Company, Cargill, Incorporated, and Tate & Lyle Americas LLC (collectively, “Petitioners”) to conduct an administrative review of 56 companies.

On June 30, 2010, the Department published the notice of initiation of this countervailing duty administrative review, covering the 56 companies. See Initiation of Antidumping and Countervailing Duty Administrative Reviews and Requests for Revocation in Part, 75 FR 37759 (June 30, 2010). On August 17, 2010, the Department issued a respondent selection memorandum selecting RZBC Co., Ltd./RZBC Import & Export Co., Ltd. and RZBC (Juxian) Co., Ltd. (collectively, “RZBC”); and Yixing Union Biochemical Co., Ltd. and Yixing Union Cogeneration Co., Ltd. (collectively, “Yixing-Union”) as mandatory respondents. See Memorandum to Susan H. Kuhbach from Patricia M. Tran, regarding Respondent Selection: Countervailing Duty Administrative Review—Citric Acid and Certain Citrate Salts (August 17, 2010).

Partial Rescission of Countervailing Duty Administrative Review

Pursuant to 19 CFR 351.213(d)(1), the Secretary will rescind an administrative review, in whole or in part, if the party who requested the administrative review withdraws the request within 90 days of the date of publication of the notice of initiation of the requested administrative review. On September 27, 2010, Petitioners withdrew their request for an administrative review of the following companies:

A.H.A. International Co., Ltd.

Changsha Huari Bio Pharmaceutical Co., Ltd.

Changsha Huayang Chemical Co., Ltd.

China North Industry Guangzhou Corporation

Feiyu Fine Chemical

Gansu Xuejing Biochemical Co., Ltd.

Great Vision International

Hai Hui Group Co., Ltd.

High Hope International Group Jiangsu Native

Produce Import & Export Co., Ltd.

Huangshi Xinghua Biochemical Co., Ltd.

Hunan Dongting Citric Acid Chemicals Co., Ltd.

Hunan Yinhai Petrochemicals Group Co., Ltd.

Jiali Bio Group (Qingdao) Limited

Jiangsu Gadot Nuobei Biochemical

Jiangsu Nuobei Biochemical Co., Ltd.

Juxian Hongde Citric Acid Co., Ltd.

Kelong International Co., Ltd.

Laiwu Taihe Biochemistry Co. Ltd.

Lianyungang Best Biochemical Technology Co. Ltd.

Lianyungang Famous Chemical, Ltd.

Lianyungang JF International Trade Co., Ltd.

Lianyungang Nuobei Biochemical Technology Co., Ltd.

Lianyungang Reliance

Lianyungang Samin Food Additives Co., Ltd.

Lianyungang Shuren Scientific Creation Import & Export Co., Ltd.

Linyi Bangtai Industry (Group) Co., Ltd.

Nantong Apac Best Biochemical Corp.

Nantong Huaze Chemical Co., Ltd.

Nantong Jiangei Additive

Penglai Marine Bio-Technology Co., Ltd.

Qingdao Fuso Refining and Processing Co., Ltd.

Qinhuangdao Sinochem Import & Export Co., Ltd.

Roche Zhongya (Wuxi) Citric Acid, Ltd.

Rugao Jinling Chemical Co., Ltd.

Shanxi Shunyi Co., Ltd.

Shandong Hongshide Chemical Industry Co., Ltd.

Shandong Laiwu Gangcheng Group

Shandong Ningmeng Biochemistry Co., Ltd.

Shandong Yingfeng Chemical Industry Group Co., Ltd.

Shanghai Henglijie Bio-Tech Co., Ltd.

Shanghai Fenhe Biochemical Co., Ltd.

Shanxi Rui Cheng Yellow River Industry, Ltd.

Shihezi City Changyun Biochemical Co., Ltd.

Sinochem Corporation

Sinochem Hebei Import & Export Co.

Sinochem Lianyungang Import & Export Co.

Sinochem Tianjin Import & Export Co.

Suntran Industrial Group, Ltd.

Tianyu Chemical Co., Ltd.

The TNN Development Limited

TTCA Co., Ltd.

Weifang Ensign Industry Co., Ltd.

Weifang Huiyuan Industry Co., Ltd.

Wuhan Shuangfeng Citric Acid Co., Ltd. (collectively, “Rescinded Companies.”)

Because Petitioners withdrew their request of the Rescinded Companies within the 90-day period and no other party requested review of the Rescinded Companies, in accordance with 19 CFR 351.213(d)(1), we are rescinding the review of the Rescinded Companies. This administrative review will continue with respect to RZBC and Yixing-Union.

Assessment Instructions

The Department will instruct U.S. Customs and Border Protection (“CBP”) to assess countervailing duties on all appropriate entries. For the Rescinded Companies, countervailing duties shall be assessed at rates equal to the cash deposit or bonding rate of the estimated countervailing duties required at the time of entry, or withdrawal from warehouse, for consumption, in accordance with 19 CFR 351.212(c)(1)(i). The Department intends to issue appropriate assessment instructions directly to CBP 15 days after publication of this notice.

This notice is issued and published in accordance with sections 751(a)(1) and 777(i)(1) of the Tariff Act of 1930, as amended, and 19 CFR 351.213(d)(4).

Dated: November 12, 2010.
Susan H. Kuhbach,
Acting Deputy Assistant Secretary for Antidumping and Countervailing Duty Operations.

[FR Doc. 2010-29298 Filed 11-19-10; 8:45 am]

BILLING CODE 3510-DS-P